DEPARTMENT OF ENERGY

Federal Energy Regulatory Commission

Combined Notice of Filings #1

Take notice that the Commission received the following electric corporate filings:

Docket Numbers: EC12-35-000.

Applicants: Arizona Solar One LLC.

Description: Application for Authorization Under Section 203 of the Federal Power Act for the Disposition of Jurisdictional Facilities, Request for Expedited Consideration and Confidential Treatment of Arizona Solar One LLC.

Filed Date: 11/18/11.

Accession Number: 20111118-5200.

Comments Due: 5 p.m. ET 12/9/11.

Docket Numbers: EC12-36-000.

Applicants: Cross-Sound Cable Company, LLC, Brookfield Infrastructure Corporation.

Description: Application for Authorization under Section 203 of the Federal Power Act, and for Expedited Consideration, Confidential Treatment and Waivers of Cross-Sound Cable Company, LLC, et al.

Filed Date: 11/18/11.

Accession Number: 20111118-5203.

Comments Due: 5 p.m. ET 12/9/11.

Docket Numbers: EC12-37-000.

Applicants: MidAmerican Energy Holdings Company, Elk Wind Energy LLC.

Description: Application for Authorization of Transaction Under Section 203 of the Federal Power Act and Request for Expedited Consideration of Elk Wind Energy LLC, et al.

Filed Date: 11/18/11.

Accession Number: 20111118-5205.

Comments Due: 5 p.m. ET 12/9/11.

Take notice that the Commission received the following electric rate filings:

Docket Numbers: ER11-4665-001.

Applicants: North Branch Resources, LLC.

Description: Supplement to Category 1 Status Request to be effective 11/18/2011.

Filed Date: 11/18/11.

Accession Number: 20111118-5159.

Comments Due: 5 p.m. ET 12/9/11.

Docket Numbers: ER12-440-000.

Applicants: Bishop Hill Energy LLC.

Description: Assignment, Co-Tenancy, and Shared Facilities Agreement to be effective 12/21/2011.

Filed Date: 11/18/11.

Accession Number: 20111118-5130.

Comments Due: 5 p.m. ET 12/9/11.

Docket Numbers: ER12-441-000.

Applicants: Bishop Hill Energy II LLC.

Description: Assignment, Co-Tenancy, and Shared Facilities Agreement to be effective 12/21/2011.

Filed Date: 11/18/11.

Accession Number: 20111118-5131.

Comments Due: 5 p.m. ET 12/9/11.

Docket Numbers: ER12-442-000.

Applicants: Bishop Hill Energy III LLC.

Description: Assignment, Co-Tenancy, and Shared Facilities Agreement to be effective 12/21/2011.

Filed Date: 11/18/11.

Accession Number: 20111118-5132.

Comments Due: 5 p.m. ET 12/9/11.

Docket Numbers: ER12-443-000.

Applicants: Southwest Power Pool, Inc.

Description: 2273 Western Farmers Electric Coop., Inc Contingency Connection Agreement to be effective 10/19/2011.

Filed Date: 11/18/11.

Accession Number: 20111118-5157.

Comments Due: 5 p.m. ET 12/9/11.

Docket Numbers: ER12-444-000.

Applicants: Southwest Power Pool, Inc.

Description: 1148R14 American Electric Power Service Corporation NITSA NOA to be effective 11/1/2011.

Filed Date: 11/18/11.

Accession Number: 20111118-5160.

Comments Due: 5 p.m. ET 12/9/11.

Docket Numbers: ER12-445-000.

Applicants: PJM Interconnection, LLC.

Description: Revisions to the PJM Tariff Schedule 12 Appendices re the RTEP to be effective 2/16/2012.

Filed Date: 11/18/11.

Accession Number: 20111118-5167.

Comments Due: 5 p.m. ET 12/19/11.

Docket Numbers: ER12-446-000.

Applicants: PJS Capital LLC.

Description: PJS Capital, LLC Electric Tariff Original Volume No 1 Cancellation Notice to be effective 12/1/2011.

Filed Date: 11/18/11.

Accession Number: 20111118-5193.

Comments Due: 5 p.m. ET 12/9/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2011.
Nathaniel J. Davis, Sr.,
Deputy Secretary.

[FR Doc. 2011-30701 Filed 11-28-11; 8:45 am]

BILLING CODE 6717-01-P